DEPARTMENT OF TRANSPORTATION

Federal Highway Administration

Environmental Impact Statement: Cambria County, PA

AGENCY: Federal Highway Administration (FHWA), DOT.

ACTION: Cancellation of the Notice of Intent.

SUMMARY: This notice rescinds the previous Notice of Intent (issued July 14, 2001) to prepare an Environmental Impact Statement for improvements to State Route 56 through West End of Johnstown, Pennsylvania. Studied improvements extended from the east of Minersville to north of Oakhurst through Johnstown, Tannerville Coopersdale, Morrelville, Cambria City, and Minersville.

FOR FURTHER INFORMATION CONTACT: David W. Cough, P.E., Director of Operations, Federal Highway Administration, Pennsylvania Division Office, 228 Walnut Street, Room 508, Harrisburg, PA, 17101-1720, Telephone (717) 221-3411 or Vince Greenland, P.E., Assistant District Executive, Pennsylvania Department of Transportation, District 9-0, 1620 North Juniata Street, Hollidaysburg, PA, Telephone (814) 696-7151.

SUPPLEMENTARY INFORMATION: The need to address safety, geometric deficiencies, deficient operational characteristics including poor access and traffic flow with heavy truck volumes have, in part, been addressed or will be addressed through separate Categorical Exclusion projects. On-line safety and upgrade improvements within the same corridor will be evaluated in a Master Plan with sufficient public outreach.

(Catalog of Federal Domestic Assistance Program Number 20.205, Highway Planning and Construction. The regulations implementing Executive Order 12372 regarding intergovernmental consultation on Federal programs and activities apply to this program.)

David C. Lawton,
Assistant Division Administrator, Harrisburg, PA.

[FR Doc. E8-23123 Filed 9-30-08; 8:45 am]

BILLING CODE 4910-22-M